DEPARTMENT OF AGRICULTURE

Forest Service

Nez Perce-Clearwater National Forests, Palouse Ranger District; Idaho; Moose Creek Project

AGENCY: Forest Service, USDA.

ACTION: Notice of intent to prepare an environmental impact statement and initiate scoping process; request for comments.

SUMMARY: The Palouse Ranger District of the Nez Perce-Clearwater National Forests (NCF) is gathering information to prepare an environmental impact statement (EIS) to identify and assess potential impacts on the environment as a result of the Moose Creek Project in Latah County, Idaho. The proposed action would use timber harvest and fuels treatment in the West Fork Potlatch River subwatershed in an overarching effort to improve forest health, reduce the risk of potential catastrophic wildfires, and provide for long-term social, ecological, and economic sustainability.

DATES: The scoping comment period will be 30 days. To ensure consideration, comments must be received no later than May 30, 2017. The draft environmental impact statement is expected October 2017 and the final environmental impact statement is expected May 2018. Those who wish to establish standing to object under 36 CFR part 218 should submit scoping comments no later than 30 days after publication of this Notice of Intent or during 45-day comment period following distribution of the Draft EIS.

ADDRESSES: Comments may be submitted at the addresses indicated below.

(a) Via mail or hand delivery: Stephanie Israel, Moose Creek IDT Leader, Palouse Ranger District, 1700 Highway 6, Potlatch, Idaho 83855.

(b) Via email: comments-northern-clearwater-palouse@fs.fed.us.

FOR FURTHER INFORMATION CONTACT: Stephanie Israel, NEPA Planner (North Zone), Nez Perce-Clearwater National Forests, (208) 476-8344 or sisrael@fs.fed.us.

Individuals who use telecommunication devices for the deaf (TDD) may call the Federal Information Relay Service (FIRS) at 1-800-877-8339 between 8 a.m. and 8 p.m., Eastern Time, Monday through Friday.

SUPPLEMENTARY INFORMATION: This process is being conducted pursuant to the National Environmental Policy Act (NEPA), the Council on Environmental Quality Regulations for Implementing the NEPA (40 CFR parts 1500-1508), and Forest Service NEPA guidelines. Additionally, pursuant to Section 106 of the National Historic Preservation Act, the public scoping process will allow members of the general public to provide NCF comments on potential impacts to historic and cultural resources for the proposed action. An objection period for the Draft Record of Decision will be provided, consistent with 36 CFR part 218.

Purpose and Need for Action

The purpose of the Moose Creek project is to treat areas originally analyzed in the late 1990s and early 2000s as part of the West Fork Potlatch EIS. When the previous analysis was performed, silvicultural prescriptions identified certain stands that would require follow-up treatment by 2022 in order to continue efforts of restoring western white pine and other early seral tree species to the landscape. Restoring the landscape to conditions where white pine and early seral tree species are present is desired because these stands are more resilient to disturbance such as fire, harmful insects and disease pathogens. Current stands are primarily composed of grand fir and Douglas-fir which are much less resilient to disturbance. If left untreated, these current conditions would likely lead to a decline in forest health and put future ecological, societal, and economical values at risk.

There is a need to decrease the risk of potential catastrophic wildfire which could threaten private residences within the wildland urban interface near the town of Bovill. The current presence of dead and dying trees combined with the high probability of increased mortality associated with the existing stands is resulting in hazardous fuel loading within the watershed. Treating these affected areas by reducing hazardous ladder fuels would reduce nutrient competition for desired species and decrease the risk of high intensity, high severity, and rapidly moving wildfire.

There is also a need to begin trending toward long-term recovery of existing soil conditions within the watershed. Regional soil standards require actions be designed to keep detrimental soil disturbance (DSD) from exceeding 15%. Current soil conditions already exceed that level in some units, and although the proposed action would cause additional DSD and impaired productivity initially, initiating restoration efforts toward a long-term trend of recovery for overall soil productivity must be identified and implemented. It is estimated that long-term recovery would occur within 30-50 years.

Proposed Action

The proposed action would include regeneration timber harvest of approximately 1,600 acres. Hazardous fuels reduction and site-preparation activities (underburning activity, slash and burning of machine piles) would be applied following harvest activities. An additional 300 acres of hand, mechanical, or prescription fire fuels reduction would be conducted in non-harvest areas. Proposed harvest activities would require construction of approximately 10 miles of new system road to be gated after use to restrict public access and construction of approximately 4.4 miles of temporary roads to be decommissioned after use. Approximately 2 miles of existing roads will be reconstructed and reconditioned. Compaction of existing skid trails and/or landings will be implemented to improve soil conditions, at a minimum in units currently exceeding the 15% DSD threshold.

Relocate and decommission a 0.8 mile section of Road 377 and construct 1.1 miles of new road and a 40-foot precast bridge across Feather Creek. The section of road proposed for relocation is in a meadow that floods every spring which poses a threat to fish habitat and creates annual access and maintenance issues. The proposed re-route and bridge crossing would provide safe, consistent access to the land, reduce maintenance costs and protect the stream from unnecessary contamination. The Forest Service will work with the Latah County Highway District to acquire the legal access rights needed for the proposed realignment.

Restore Cougar Meadow area to improve range functions by removing or re-contouring portions of an existing railroad berm in Cougar Meadows. Reconnecting the floodplain and Cougar Creek channel where they are currently separated would improve the meadow's ability to hold water into the summer. Construction of two additional stockponds is proposed to reduce animal pressure from stream channels and help draw cattle away from the riparian meadows.

Possible Alternatives

Alternatives will be developed based on comments received during scoping period. At this time the agency is anticipating a minimum of two alternatives: 1. No-action and 2. Proposed Action

Responsible Official

Forest Supervisor, Nez Perce-Clearwater National Forests.

Nature of Decision To Be Made

The Responsible Official will determine whether to adopt the proposed action or another alternative, in whole or in part, and what mitigation measurements and management requirements will be implemented.

Scoping Process

This notice of intent initiates the scoping process, which guides the development of the environmental impact statement.

It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered; however, anonymous comments will not provide the Agency with the ability to provide the respondent with subsequent environmental documents.

Dated: April 13, 2017.
Glenn P. Casamassa,
Associate Deputy Chief, National Forest System.

[FR Doc. 2017-08496 Filed 4-26-17; 8:45 am]

BILLING CODE 3411-15-P